FEDERAL COMMUNICATIONS COMMISSION

Notice of Public Information Collection(s) Being Reviewed by the Federal Communications Commission, Comments Requested

November 4, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 9, 2006. If you anticipate that you will be submitting comments, but find it difficult to do so within the period of time allowed by this notice, you should advise the contact listed below as soon as possible.

ADDRESSES: You may submit your Paperwork Reduction Act (PRA) comments by email or U.S. postal mail. To submit you comments by email send them to: PRA@fcc.gov. To submit your comments by U.S. mail, mark it to the attention of Judith B. Herman, Federal Communications Commission, 445 12th Street, SW., Room 1-C804, Washington, DC 20554.

FOR FURTHER INFORMATION CONTACT: For additional information about the information collection(s) send an email to PRA@fcc.gov or contact Judith B. Herman at 202-418-0214.

SUPPLEMENTARY INFORMATION: OMB Control No.: 3060-XXXX.

Title: Amendment of Part 2 of the Commission's Rules to Allocate Spectrum Below 3 GHz for Mobile and Fixed Services to Support the Introduction of New Advanced Wireless Services, including Third Generation Wireless Systems.

Form No.: N/A.

Type of Review: New collection.

Respondents: Business or other for-profit, not-for-profit institutions.

Number of Respondents: 200.

Estimated Time Per Response: 17.5 hours.

Frequency of Response: On occasion reporting requirement, and third party disclosure requirement, and recordkeeping requirement.

Total Annual Burden: 3,500 hours.

Total Annual Cost: $350,000.

Privacy Act Impact Assessment: N/A.

Needs and Uses: The Commission is requiring Broadband Radio Service (BRS) licensees in the 2150-2160/62 MHz band to provide information on the construction status and operational parameters of each incumbent BRS system that would be subject of relocation. See ET Docket No. 00-258, Order, 70 FR 61747 (October 26, 2005). This information will assist the Commission in determining the scope of the new Advanced Wireless Services (AWS) entrants' relocation obligations; also, reliable public data on each incumbent BRS system that would be subject to the relocation is essential well in advance of the planned auction of the 2150-2155 MHz band next year.

The Commission will, after the 60 day comment period, submit this new information collection request to OMB in order to obtain the full three-year clearance from the OMB.

Federal Communications Commission.
Marlene H. Dortch,
Secretary.

[FR Doc. 05-22477 Filed 11-8-05; 8:45 am]

BILLING CODE 6712-01-P